DEPARTMENT OF ENERGY

Federal Energy Regulatory Commission

Combined Notice of Filings #1

November 20, 2006.

Take notice that the Commission received the following electric rate filings:

Docket Numbers: ER06-613-002.

Applicants: ISO New England Inc.

Description: ISO New England Inc., submits its Compliance Report pursuant to the Order issued on 5/12/06 and an errata to this filing on to this filing 11/14/06.

Filed Date: 11/13/2006; 11/14/2006.

Accession Number: 20061116-0085; 20061116-0059.

Comment Date: 5 p.m. Eastern Time on Monday, December 04, 2006.

Docket Numbers: ER06-1014-001.

Applicants: New York Independent System Operator, Inc.

Description: New York Independent System Operator Inc submits a compliance filing pursuant to the commission's order issued on July 14, 2006.

Filed Date: 11/13/2006.

Accession Number: 20061116-0045.

Comment Date: 5 p.m. Eastern Time on Monday, December 04, 2006.

Docket Numbers: ER06-1383-001.

Applicants: ISO New England Inc.; Northeast Utilities Service Company.

Description: Northeast Utilities Service Co., The Connecticut Light and Power Co., et al. notifies FERC that the sales transactions closed on 11/1/06.

Filed Date: 11/13/2006.

Accession Number: 20061116-0178.

Comment Date: 5 p.m. Eastern Time on Monday, December 04, 2006.

Docket Numbers: ER07-188-001; ER07-189-001; ER07-190-001; ER07-191-001; ER07-192-001.

Applicants: Duke Energy Carolina, LLC; Duke Energy Indiana, Inc.; Duke Energy Kentucky, Inc.; Duke Energy Ohio, Inc.; Duke Energy Shared Services, Inc.

Description: Duke Energy Carolinas LLC et al. submit a correction to its 10/21/06 filing.

Filed Date: 11/13/2006.

Accession Number: 20061117-0099.

Comment Date: 5 p.m. Eastern Time on Monday, December 04, 2006.

Docket Numbers: ER07-203-000.

Applicants: Xcel Energy Services Inc.

Description: Xcel Energy Services Inc. on behalf of Southwestern Public Service Company submits a Connection Agreement with Golden Spread Electric Cooperative, Inc., Original Agreement No. 603-SPS,Original Volume No. 6.

Filed Date: 11/13/2006.

Accession Number: 20061116-0043.

Comment Date: 5 p.m. Eastern Time on Monday, December 04, 2006.

Docket Numbers: ER07-204-000.

Applicants: PJM Interconnection, LLC.

Description: PJM Interconnection LLC submits an executed interconnection service agreement with, RC Cape May Holdings LLC and Atlantic City Electric Company.

Filed Date: 11/13/2006.

Accession Number: 20061116-0044.

Comment Date: 5 p.m. Eastern Time on Monday, December 04, 2006.

Docket Numbers: ER07-205-000.

Applicants: Ameren Energy Marketing; Central Illinois Light Company; Central Illinois Public Service Company; Illinois Power Company; Union Electric Company.

Description: Ameren Energy Inc., Ameren Energy Marketing Co et al. submit an application for authorization to power sales to their affiliates pursuant to Section 205 of the FPA.

Filed Date: 11/09/2006.

Accession Number: 20061116-0046.

Comment Date: 5 p.m. Eastern Time on Thursday, November 30, 2006.

Docket Numbers: ER07-211-000.

Applicants: Southwest Power Pool, Inc.

Description: Southwest Power Pool, Inc., submits an executed Large Generator Interconnection Agreement with Flying Cloud, LLC and Southwestern Public Service Company.

Filed Date: 11/13/2006.

Accession Number: 20061116-0084.

Comment Date: 5 p.m. Eastern Time on Monday, December 04, 2006.

Docket Numbers: ER07-220-000.

Applicants: Northeast Utilities Service Company.

Description: Northeast Utilities Operating Companies on behalf Connecticut Light & Power Co., et al. submits its request to withdraw the NU Operating Companies FERC Electric Rate Schedule 62.

Filed Date: 11/15/2006.

Accession Number: 20061117-0100.

Comment Date: 5 p.m. Eastern Time on Wednesday, December 06, 2006.

Docket Numbers: ER07-221-000.

Applicants: Geysers Power Company, LLC.

Description: Geysers Power Company, LLC submits revisions to certain Rate Schedules of its Reliability Must-Run Agreement with the California Independent System Operator Corp.

Filed Date: 11/15/2006.

Accession Number: 20061117-0097.

Comment Date: 5 pm Eastern Time on Wednesday, December 06, 2006.

Docket Numbers: ER07-222-000.

Applicants: Gilroy Energy Center, LLC.

Description: Gilroy Energy Center, LLC submits revisions to certain Rate Schedules of its Reliability Must-Run Agreement with California Independent Systems Operator Corp.

Filed Date: 11/15/2006.

Accession Number: 20061117-0098.

Comment Date: 5 p.m. Eastern Time on Wednesday, December 06, 2006.

Docket Numbers: ER07-223-000.

Applicants: Los Medanos Energy Center LLC.

Description: Los Medanos Energy Center LLC submits an unexecuted Must-Run Service Agreement with California Independent System Operator Corporation.

Filed Date: 11/15/2006.

Accession Number: 20061117-0061.

Comment Date: 5 p.m. Eastern Time on Wednesday, December 06, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-20186 Filed 11-28-06; 8:45 am]

BILLING CODE 6717-01-P